OVERSEAS PRIVATE INVESTMENT CORPORATION

Sunshine Act Meeting

TIME AND DATE: Wednesday, June 12, 2019 3 p.m. (OPEN).

PLACE: Offices of the Corporation, Twelfth Floor Board Room, 1100 New York Avenue, NW, Washington, DC.

STATUS: Meeting OPEN to the Public.

MATTERS TO BE CONSIDERED:

1. Approval—Bylaws of the Corporation

2. Approval—Corporate Secretary

3. Approval—Charter of the Risk Committee of the Board

4. Approval—Charter of the Audit Committee of the Board

5. Approval—Delegation of Authority of the Board

The Better Utilization of Investments Leading to Development (BUILD) Act of 2018, Public Law 115-254 creates the U.S. International Development Finance Corporation (DFC) by bringing together the Overseas Private Investment Corporation (OPIC) and the Development Credit Authority (DCA) office of the U.S. Agency for International Development (USAID). Section 1465(a) of the Act tasks OPIC staff with assisting DFC in the transition. Section 1466(a)-(b) provides that all completed administrative actions and all pending proceedings shall continue through the transition to the DFC. Accordingly, OPIC is issuing this Sunshine Act Meeting notice and on behalf of the DFC.

CONTACT PERSON FOR MORE INFORMATION: Information on the meeting may be obtained from Catherine F. I. Andrade at (202) 336-8768, or via email at Catherine.Andrade@opic.gov.

Dated: June 1, 2019.
Catherine Andrade,
Corporate Secretary, Overseas Private Investment Corporation.

[FR Doc. 2019-11842 Filed 6-3-19; 11:15 am]

BILLING CODE 3210-01-P